DEPARTMENT OF THE INTERIOR

National Park Service

36 CFR Part 7

RIN 1024-AD06

Special Regulations; Areas of the National Park System

AGENCY: National Park Service, Interior.

ACTION: Proposed rule.

SUMMARY: The National Park Service (NPS) is proposing to postpone the implementation of existing snowmobile regulations in Yellowstone National Park, the John D. Rockefeller, Jr., Memorial Parkway, and Grand Teton National Park for one year. This proposal is in conjunction with the Supplemental Environmental Impact Statement (SEIS) being prepared for all three NPS areas. This additional time is needed because the NPS has not had sufficient time to plan for and implement the NPS-managed, mass-transit, snowcoach-only system outlined in the existing Winter Use Plan and to complete the Supplemental Environmental Impact Statement.

DATES: Written comments will be accepted through May 28, 2002.

ADDRESSES: Comments may be sent to Robert J. Maguire, Winter Use Regulations, National Park Service, P.O. Box 124, Moose, WY 83012. Fax: (307) 739-3504. Email: Grte_winter_regs@nps.gov.

FOR FURTHER INFORMATION CONTACT: Kym Hall, Regulations Program Manager, National Park Service, 1849 C Street, NW, Room 7413, Washington, DC 20240. Phone: (202) 208-4206. Fax: (202) 208-6756. Email: Kym_Hall@nps.gov.

SUPPLEMENTARY INFORMATION:

Background

In 1990 a Winter Use Plan was completed for Yellowstone National Park (YNP), Grand Teton National Park (GTNP), and the John D. Rockefeller, Jr., Memorial Parkway (the Parkway). In 1994 the National Park Service (NPS) and U.S. Forest Service (USFS) staff began work on a coordinated interagency report on Winter Visitor Use Management. This effort was in response to an earlier than expected increase in winter use. The 1990 Winter Use Plan projected 143,000 visitors for the year 2000. Winter visitors to YNP and GTNP in 1992-93 exceeded this estimate. Total visitors to YNP and GTNP in that year were, respectively, 142,744 and 128,159.

In 1994 the Greater Yellowstone Coordinating Committee (GYCC), composed of National Park Service Superintendents and National Forest Supervisors within the Greater Yellowstone Area (GYA), recognized the trend toward increasing winter use and identified concerns relating that use. The GYCC chartered an interagency study team to collect information relative to these concerns and perform an analysis of winter use in the GYA. This analysis, Winter Visitor Use Management: a Multi-agency Assessment, was drafted in 1997 and approved by the GYCC for final publication in 1999. The assessment identifies desired conditions for the GYA, current areas of conflict, issues and concerns, and possible ways to address them. The final document considered and incorporated many comments from the general public, interest groups, and local and state governments surrounding public lands in the GYA.

In May 1997, the Fund for Animals filed a suit against the National Park Service (NPS). The suit alleged that the NPS had failed to conduct adequate analysis under the National Environmental Policy Act (NEPA) when developing its winter use plan for the areas, failed to consult with the U.S. Fish and Wildlife Service on the effects of winter use on threatened and endangered species, and failed to evaluate the effects of trail grooming on wildlife and other park resources. In October 1997, the Department of Interior (DOI) and the plaintiffs reached a settlement agreement. Under the agreement, the NPS agreed, in part, to prepare an environmental impact statement (EIS) for new winter use plans for the parks and the parkway. This settlement provision was satisfied with publication and distribution of the final environmental impact statement (FEIS) on October 10, 2000. A record of decision (ROD) was signed by Intermountain Regional Director Karen Wade on November 22, 2000, and subsequently distributed to interested and affected parties. The ROD selected FEIS Alternative G, which eliminates both snowmobile and snowplane use from the parks by the winter of 2003-2004, and provides access via an NPS-managed, mass-transit snowcoach system. The decision was based on a finding that existing snowmobile and snowplane use impairs park resources and values, thus violating the statutory mandate of the NPS.

Implementing aspects of this decision relating to designation of routes available for over-snow motorized access required a rule change for each park unit in question. Following publication of a proposed rule and the subsequent public comment period, a final rule was published in the Federal Register on January 22, 2001. The rule became effective on April 22, 2001. Full implementation of the plan and the rule changes do not occur until the winter of 2003-2004.

The Secretary of the Interior and others in the Department of the Interior and the National Park Service were named as defendants in a lawsuit brought by the International Snowmobile Manufacturers Association and several groups and individuals. The State of Wyoming intervened on behalf of the plaintiffs. The lawsuit asked for the decision, as reflected in the ROD and final rule, to be set aside. The lawsuit alleged that NPS failed to give legally mandated consideration to all of the alternatives, made political decisions outside the public process and contradictory to evidence and data, failed to give the public appropriate notice and participation, failed to adequately consider and use the proposals and expertise of the Cooperating Agencies, failed to properly interpret and implement the Parks' purpose, discriminated against disabled visitors, and improperly adopted implementing regulations. A settlement was reached on June 29, 2001 and, through its terms, NPS is acting as lead agency to prepare a Supplemental Environmental Impact Statement (SEIS). In accordance with the settlement, the SEIS will incorporate “any significant new or additional information or data submitted with respect to a winter use plan.” Additionally, the NPS will consider new information and data submitted regarding new snowmobile technologies. A Notice of Intent to prepare a Supplemental Environmental Impact Statement was published in the Federal Register on July 27, 2001 (66 FR 39197).

As a term of the settlement, the State of Wyoming was designated as a “cooperating agency” for the development of the Supplemental EIS. Subsequent to the settlement, all other agencies that signed cooperating agency agreements during the earlier EIS process agreed to be cooperating agencies for the SEIS. These agencies are: the U.S. Forest Service, the States of Montana and Idaho, Fremont County Idaho, Gallatin and Park Counties in Montana, and Park and Teton Counties in Wyoming. In addition, the Environmental Protection Agency (EPA) was invited to be a new cooperating agency in this effort.

The NPS determined that the preparation of a Supplemental EIS will further the purposes of the National Environmental Policy Act, which includes soliciting more public comments on the earlier decision and alternatives and considering new information not available at the time of the earlier decision. The purpose of this rule is to postpone the implementation of existing snowmobile regulations in Yellowstone National Park, the John D. Rockefeller, Jr., Memorial Parkway, and Grand Teton National Park for one year because the NPS has not had sufficient time to plan for and implement the NPS-managed, mass-transit, snowcoach-only system outlined in the existing Winter Use Plan and to complete the Supplemental EIS.

The following proposed rule changes are common to all three parks. The use of snowmobiles will be extended until the end of the 2003-2004 winter use season. The implementation of public use limits set to go into effect in the 2002-2003 winter use season will be delayed until the winter use season 2003-2004. The designated routes and hours of operation for snowmobiles during the winter use season of 2002-2003 will also be used for the 2003-2004 winter use season.

In Yellowstone National Park the requirement that snowmobiles be accompanied by an NPS permitted guide will be implemented during the 2003-2004 winter use season. The use of snowmobiles on the frozen surface of Jackson Lake in Grand Teton National Park will be permitted until the end of the 2002-2003 winter use season.

Additional regulations concerning licensing, hours of operation and snowplane use were effective for the winter use season 2001-2002. The existing regulations prohibit the use of snowplanes in Grand Teton National Park after the winter season of 2001-2002. Those provisions are not addressed in, nor affected by, the supplemental EIS process and therefore it is appropriate they take affect as they appear in the existing regulations. No public comment is being solicited on these provisions.

Compliance With Other Laws

Regulatory Planning and Review (E.O. 12866)

This document is a significant rule and has been reviewed by the Office of Management and Budget under Executive Order 12866.

(1) This rule will not have an effect of $100 million or more on the economy. It will not adversely affect in a material way the economy, productivity, competition, jobs, the environment, public health or safety, or State, local, or tribal governments or communities.

This rule would delay any adverse economic impact from the existing rule for one year, there may be economic benefits resulting from the proposed extension. In the Draft Supplemental Environmental Impact Statement (DSEIS), the NPS estimated that in 2003-2004, the economic outputs and employment impacts of implementing actions under this rule are: in the five-county, greater Yellowstone area, an estimated loss of 15.9 to 21.1 million dollars; in the three-state area surrounding the parks, a variance of a possible 18.4 million dollar loss to a 7.0 million dollar increase. Increased winter visitation from new visitors to the park under existing regulations could substantially offset estimated losses and employment reductions from current visitors.

(2) This rule will not create a serious inconsistency or otherwise interfere with an action taken or planned by another agency. Implementing actions under this rule will not interfere with other agencies or local government plans, policies, or controls. This is an agency specific change.

(3) This rule does not alter the budgetary effects of entitlements, grants, user fees, or loan programs or the rights or obligations of their recipients.

This rule will only postpone the prohibition on snowmobiles for one year within specific national parks. No grants or other forms of monetary supplements are involved.

(4) This rule may raise novel legal or policy issues.

The issue of prohibiting snowmobiles or allowing their continued use has generated local as well as national interest on the subject in the greater Yellowstone area. Previously, tens of thousands of public comments were received and analyzed in the development of the FEIS, Winter Use Management Plan, and existing regulations.

Regulatory Flexibility Act

The Department of the Interior certifies that this document will not have a significant economic effect on a substantial number of small entities under the Regulatory Flexibility Act (5 U.S.C. 601 et seq.).

After considering the economic impacts of the delay rule on small entities, NPS concludes the delay rule will mitigate the impacts on small businesses during the winters of 2002-2003 and 2003-2004. The NPS projects higher total levels of revenue for firms providing unguided and guided snowmobile rentals and snowcoach tours in those winters.

Small Business Regulatory Enforcement Fairness Act (SBREFA)

This rule is not a major rule under 5 U.S.C. 804(2), the Small Business Regulatory Enforcement Fairness Act. This rule:

a. Does not have an annual effect on the economy of $100 million or more.

This rule would delay any adverse economic impact from the existing rule for one year, there may be economic benefits resulting from the proposed extension. In the Draft Supplemental Environmental Impact Statement (DSEIS), the NPS estimated that in 2003-2004, the economic outputs and employment impacts of implementing actions under this rule are: in the five-county, greater Yellowstone area, an estimated loss of 15.9 to 21.1 million dollars; in the three-state area surrounding the parks, a variance of a possible 18.4 million dollar loss to a 7.0 million dollar increase. Increased winter visitation from new visitors to the park under existing regulations could substantially offset estimated losses and employment reductions from current visitors.

b. Will not cause a major increase in costs or prices for consumers, individual industries, Federal, State, or local government agencies, or geographic regions.

Delaying the implementation of current snowmobile regulations for one year will have little effect on costs or prices for consumers, individual industries or any government agency.

c. Does not have significant adverse effects on competition, employment, investment, productivity, innovation, or the ability of U.S.-based enterprises to compete with foreign-based enterprises.

This rulemaking has no effect on methods of manufacturing or production and specifically influences only the Wyoming region, not national or U.S. based enterprises.

Unfunded Mandates Reform Act

This rule does not impose an unfunded mandate on State, local, or tribal governments or the private sector of more than $100 million per year. The rule does not have a significant or unique effect on State, local or tribal governments or the private sector.

This rule postpones the implementation of existing snowmobile regulations for one year. It imposes no other requirements on other agencies, governments, or the private sector.

Takings (E.O. 12630)

In accordance with Executive Order 12630, the rule does not have significant takings implications.

This rule proposes to delay the implementation of existing snowmobile regulation for one year. Private property within the boundaries of those parks will still be afforded access during the winter use season. No other property is affected.

Federalism (E.O. 13132)

In accordance with Executive Order 13132, the rule does not have sufficient federalism implications to warrant the preparation of a Federalism Assessment.

This proposed rule effects use by the public of NPS administered lands. It has no outside effects on other areas and only address a portion of the use within parks.

Civil Justice Reform (E.O. 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

In 2000, NPS completed a Final Environmental Impact Statement and issued a Record of Decision. That Record of Decision was the basis for the existing rule. A Draft Supplemental Environmental Impact Statement (DSEIS) has been prepared to reconsider the Record of Decision. A copy of the FEIS or DSEIS is available by contacting the Superintendent of Yellowstone or Grand Teton National Parks or on the World Wide Web at www.nps.gov/grte/winteruse/intro.htm.

Government-to-Government Relationship With Tribes

In accordance with the President's memorandum of April 29, 1994, “Government to Government Relations with Native American Tribal Governments” (59 FR 22951) and 512 DM 2:

We have evaluated potential effects on federally recognized Indian tribes and have determined that there are no potential effects.

Numerous tribes surrounding the greater Yellowstone area were consulted in the development of the Winter Use Plan and FEIS. The main concerns expressed by the tribes were the affects on wildlife by snowmobiles. This rule has no effect on tribal lands or trusts.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading; for example § 7.22 Grand Teton National Park.) (5) Is the description of the rule in the “Supplementary Information” section of the preamble helpful in understanding the proposed rule? What else could we do to make the rule easier to understand?

Send a copy of any comments that concern how we could make this rule easier to understand to: Office of Regulatory Affairs, Department of the Interior, Room 7229, 1849 C Street, NW, Washington, DC 20240. You may also email the comments to this address: Exsec@ios.doi.gov.

Drafting Information: The principal contributors to this proposed rule are Robert J. Maguire, North District Ranger, Grand Teton National Park; Kym A. Hall, NPS Regulations Program Manager; Debra Hecox, Attorney-Advisor, Solicitor's Office; Bob Rossman, Outdoor Recreation Planner, Grand Teton National Park; Sarah Creachbaum, Outdoor Recreation Planner, Grand Teton National Park; and John Sacklin, Supervisory Planner, Yellowstone National Park.

Public Participation: If you wish to comment, you may submit your comments by any one of several methods. You may mail your comments to Robert J. Maguire, Winter Use Regulations, National Park Service, P.O. Box 124, Moose, WY 83012. You may also comment via the Internet to grte_winter_regs@nps.gov. Please submit Internet comments as an ASCII file avoiding the use of special characters and any form of encryption. Finally, you may hand deliver comments to Robert J. Maguire, Grand Teton National Park, North District Office, Colter Bay, Wyoming. Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials or organizations or businesses, available for public inspection in their entirety.

List of Subjects in 36 CFR Part 7

District of Columbia, National Parks, Reporting and recordkeeping requirements.

We propose to amend 36 CFR Part 7 as set forth below:

PART 7—SPECIAL REGULATIONS, AREAS OF THE NATIONAL PARK SYSTEM

1. The authority for part 7 continues to read as follows:

Authority: 16 U.S.C. 1, 3, 9a, 460(q), 462(k); Sec. 7.96 also issued under D.C. Code 8-137(1981) and D.C. Code 40-721 (1981).

2. In § 7.13, remove and reserve paragraph (l)(2), revise the introductory text of paragraph (l)(5), revise the introductory text of paragraph (l)(7), revise paragraph (l)(11)(i), and revise paragraph (l)(11)(viii) to read as follows:

§ 7.13 Yellowstone National Park.

* * * * *

(l)(2) [Removed and Reserved]

* * * * *

(l)(5) What routes are designated for snowmobile use in the park during the winter seasons of 2002-2003 and 2003-2004? During the winter use seasons of 2002-2003 and 2003-2004, the following routes are designated for snowmobile use:

* * * * *

(l)(7) What limits are established for the number of snowmobiles permitted to use the park each day? For the winter use season 2003-2004, the numbers of snowmobiles allowed to use the park each day are listed in the following table:

* * * * *

(l)(11)(i) Snowcoaches, and during the winter use seasons of 2002-2003 and 2003-2004 snowmobiles, may not be operated in the park between the hours of 9:00 p.m. and 8:00 a.m. except by authorization.

* * * * *

(l)(11)(viii) During the winter season of 2003-2004, snowmobiles must be accompanied by an NPS permitted guide and may not travel in groups of more than 11 snowmobiles.

* * * * *

3. In § 7.21, revise paragraph (a)(1), remove and reserve paragraph (a)(2), revise paragraph (a)(4) introductory text, revise paragraph (a)(5) introductory text, and revise paragraph (a)(9)(vi) to read as follows:

§ 7.21 John D. Rockefeller, Jr., Memorial Parkway.

* * * * *

(a)(1) May I operate a snowmobile in the Parkway? You may operate a snowmobile in the Parkway in compliance within the public use limits and operating conditions established in this section until the end of the winter use season of 2003-2004 at which time snowmobile use in the Parkway is prohibited except for essential administrative use and in emergency situations as determined by the Superintendent.

(a)(2) [Removed and Reserved]

* * * * *

(a)(4) What routes are designated for snowmobile use in the Parkway in the winter use seasons of 2002-2003 and 2003-2004? During the winter use seasons of 2002-2003 and 2003-2004, the following routes are designated for snowmobile use:

* * * * *

(a)(5) What limits are established for the number of snowmobiles permitted to use the Parkway each day? For the winter use season 2003-2004, the numbers of snowmobiles allowed to use the Parkway each day are listed in the following table:

* * * * *

(a)(9)(vi) Snowcoaches, and during the winter use seasons of 2002-2003 and 2003-2004 snowmobiles, may not be operated in the park between the hours of 9:00 p.m. and 8:00 a.m. except by authorization.

* * * * *

4. In § 7.22, revise paragraph (g)(1), remove and reserve paragraphs (g)(2) and (g)(3), revise paragraph (g)(4), revise paragraph (g)(6), and revise paragraph (g)(7)(vi) to read as follows:

§ 7.22 Grand Teton National Park.

* * * * *

(g)(1) May I operate a snowmobile in Grand Teton National Park? During the winter use seasons of 2002-2003 and 2003-2004, you may operate a snowmobile on the routes designated in paragraph (g)(6) of this section in compliance with public use limits and operating standards established by the Superintendent. Effective the winter use season of 2004-2005, snowmobile use will be restricted to the routes and purposes in paragraph (g)(10), (11), (12), and (13) of this section. All other snowmobile use is prohibited, except for essential administrative use and in emergency situations as determined by the Superintendent.

(g)(2) [Removed and Reserved]

(g)(3) [Removed and Reserved]

(g)(4) Effective until the end of the winter use season 2002-2003, the following water surface is designated for snowmobile use: The frozen surface of Jackson Lake.

* * * * *

(g)(6) What routes and limits are designated for snowmobile use in the park during the winter use seasons of 2002-2003 and 2003-2004? For the winter use seasons of 2002-2003 and 2003-2004, the Continental Divide Snowmobile Trail along U.S. 26/287 from Moran to the eastern park boundary and along U.S. 89/287 from Moran to the north park boundary is designated for snowmobile use. The Superintendent may open or close this route after taking into consideration the location of wintering wildlife, appropriate snow cover, and other factors that may relate to public safety. During the winter use season of 2003-2004 a maximum of 25 snowmobiles are allowed to use this route each day.

* * * * *

(g)(7)(vi) Snowcoaches, and during the winter use seasons of 2002-2003 and 2003-2004 snowmobiles, may not be operated in the park between the hours of 9:00 p.m. and 8:00 a.m.

* * * * *

Dated: March 20, 2002.
Craig Manson,
Assistant Secretary, Fish and Wildlife and Parks.

[FR Doc. 02-7707 Filed 3-28-02; 8:45 am]

BILLING CODE 4310-70-P